DEPARTMENT OF HOMELAND SECURITY

U.S. Citizenship and Immigration Services

[OMB Control Number 1615-0124]

Agency Information Collection Activities: Consideration of Deferred Action for Childhood Arrivals, Form I-821D; Revision of a Currently Approved Collection

ACTION: 30-day notice.

SUMMARY: In accordance with the Paperwork Reduction Act of 1995 (Pub. L.104-13, 44 U.S.C. 3501 et seq.), the Department of Homeland Security (DHS) is requesting public comment on a proposed revision to an approved information collection. On August 15, 2012, the Department of Homeland Security (DHS), U.S. Citizenship and Immigration Services (USCIS), submitted an information collection request, utilizing emergency review procedures, to the Office of Management and Budget (OMB) for review and clearance. OMB approved the information collection request.

USCIS will be submitting the following information collection request to OMB for review and clearance in accordance with the Paperwork Reduction Act of 1995. The information collection notice was previously published in the Federal Register on December 14, 2012, at 77 FR 74488, allowing for a 60-day public comment period. USCIS received comments in connection with the 60-day notice. A discussion of the comments and USCIS' responses are addressed in item 8 of the supporting statement that can be viewed at: http://www.regulations.gov.

DATES: The purpose of this notice is to allow an additional 30 days for public comments. Comments are encouraged and will be accepted until March 29, 2013. This process is conducted in accordance with 5 CFR 1320.10.

ADDRESSES: Written comments and/or suggestions regarding the item(s) contained in this notice, especially regarding the estimated public burden and associated response time, should be directed to DHS, and to the OMB USCIS Desk Officer. Comments may be submitted to: DHS, USCIS, Office of Policy and Strategy, Chief, Regulatory Coordination Division, 20 Massachusetts Avenue NW., Washington, DC 20529-2140. Comments may also be submitted to DHS via email at uscisfrcomment@dhs.gov, to the OMB USCIS Desk Officer via facsimile at 202-395-5806 or via email at oira_submission@omb.eop.gov and via the Federal eRulemaking Portal Web site at http://www.Regulations.gov under e-Docket ID number USCIS-2012-0012. When submitting comments by email, please make sure to add [Insert OMB Control Number 1615-0124] in the subject box.

All submissions received must include the agency name, OMB Control Number and Docket ID. Regardless of the method used for submitting comments or material, all submissions will be posted, without change, to the Federal eRulemaking Portal at http://www.regulations.gov, and will include any personal information you provide. Therefore, submitting this information makes it public. You may wish to consider limiting the amount of personal information that you provide in any voluntary submission you make to DHS. For additional information please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection Request: Revision of a Currently Approved Collection.

(2) Title of the Form/Collection: Consideration of Deferred Action for Childhood Arrivals.

(3) Agency form number, if any, and the applicable component of the DHS sponsoring the collection: Form I-821D. U.S. Citizenship and Immigration Services.

(4) Affected public who will be asked or required to respond, as well as a brief abstract: Primary: Individuals or Households. The information collected on this form is used by USCIS to determine eligibility of certain individuals who were brought to the United States as children and meet the following guidelines to be considered for deferred action for childhood arrivals:

1. Were under the age of 31 as of June 15, 2012;

2. Came to the United States before reaching their 16th birthday;

3. Have continuously resided in the United States since June 15, 2007, up to the present time;

4. Were present in the United States on June 15, 2012, and at the time of making their request for consideration of deferred action with USCIS;

5. Entered without inspection before June 15, 2012, or their lawful immigration status expired as of June 15, 2012;

6. Are currently in school, have graduated or obtained a certificate of completion from high school, have obtained a general education development certificate, or are an honorably discharged veteran of the Coast Guard or Armed Forces of the United States; and

7. Have not been convicted of a felony, significant misdemeanor, three or more other misdemeanors, and do not otherwise pose a threat to national security or public safety.

These individuals will be considered for relief from removal from the United States or from being placed into removal proceedings as part of the deferred action for childhood arrivals process. Those who submit requests with USCIS and demonstrate that they meet the threshold guidelines may have removal action in their case deferred for a period of two years, subject to renewal (if not terminated), based on an individualized, case by case assessment of the individual's equities. Only those individuals who can demonstrate, through verifiable documentation, that they meet the threshold guidelines will be considered for deferred action for childhood arrivals, except in exceptional circumstances.

(5) An estimate of the total number of respondents and the amount of time estimated for an average respondent to respond: 700,000 responses at 2 hours and 45 minutes (2.75 hours) per response.

(6) An estimate of the total public burden (in hours) associated with the collection: 1,925,000 annual burden hours.

On August 15, 2012, in a 30-day notice in the Federal Register at 77 FR 49451, USCIS requested interested members of the general public to provide input and estimates on the burden in terms of time and money incurred by applicants for the following aspects of this information collection:

• The time burden incurred by preparers (persons who assist the respondent with the preparation of the form) who are not paid.• For preparers who are paid, the time and expense to the respondent to find and secure such preparers for assistance.

• The amount that paid preparers charge for their services.

• The time required to obtain supporting documents for Form I-821D.

• The monetary costs incurred to obtain supporting documents from sources such as a landlord, church, utility, public agency (housing, social services, law enforcement), school, medical care provider, advocacy group, law firm, or military service.

• The average time required and money expended to secure secondary evidence such as an affidavit.

• The percentage of total applicants who require English translations of their supporting documents.

• The percentage of supporting documents for each individual applicant that require translation into English.

• The time required to find, hire, or otherwise obtain translations of supporting documents for immigration benefit requests.

• The average out of pocket monetary cost if any to obtain translations of supporting documents when required.

No commenter provided input on these questions. Thus DHS and USCIS is again requesting estimates and/or data that would support our analysis of this burden during the 30-day comment period provided under this notice.

If you need a copy of the information collection instrument with supplementary documents, or need additional information, please visit http://www.regulations.gov. We may also be contacted at: USCIS, Office of Policy and Strategy, Regulatory Coordination Division, 20 Massachusetts Avenue NW., Washington, DC 20529-2140; Telephone 202-272-8377.

Dated: February 22, 2013.
Laura Dawkins,
Chief, Regulatory Coordination Division, Office of Policy and Strategy, U.S. Citizenship and Immigration Services, Department of Homeland Security.

[FR Doc. 2013-04576 Filed 2-26-13; 8:45 am]

BILLING CODE 9111-97-P